DEPARTMENT OF ENERGY

Federal Energy Regulatory Commission

Combined Notice of Filings #1

Take notice that the Commission received the following electric corporate filings:

Docket Numbers: EC16-177-000.

Applicants: International Transmission Company.

Description: Application for Approval of Acquisition of Assets under FPA Section 203 of International Transmission Company.

Filed Date: 9/9/16.

Accession Number: 20160909-5101.

Comments Due: 5 p.m. ET 9/30/16.

Take notice that the Commission received the following exempt wholesale generator filings:

Docket Numbers: EG16-147-000.

Applicants: Grant Plains Wind, LLC.

Description: Grant Plains Wind, LLC submits Notice of Self-Certification as an Exempt Wholesale Generator.

Filed Date: 9/8/16.

Accession Number: 20160908-5295.

Comments Due: 5 p.m. ET 9/29/16.

Docket Numbers: EG16-148-000.

Applicants: Sunflower Wind Project, LLC.

Description: Notice of Self-Certification of EG of Sunflower Wind Project, LLC.

Filed Date: 9/8/16.

Accession Number: 20160908-5302.

Comments Due: 5 p.m. ET 9/29/16.

Take notice that the Commission received the following electric rate filings:

Docket Numbers: ER16-2501-001.

Applicants: Nicolis, LLC.

Description: Tariff Amendment: Amendment to Application for MBR to be effective 8/30/2016.

Filed Date: 9/9/16.

Accession Number: 20160909-5141.

Comments Due: 5 p.m. ET 9/23/16.

Docket Numbers: ER16-2502-001.

Applicants: Tropico, LLC.

Description: Tariff Amendment: Amendment to Application for MBR Filing to be effective 8/30/2016.

Filed Date: 9/9/16.

Accession Number: 20160909-5138.

Comments Due: 5 p.m. ET 9/23/16.

Docket Numbers: ER16-2569-000.

Applicants: The Dayton Power and Light Company.

Description: Baseline eTariff Filing: DP&L Reactive Power Tariff Filing to be effective 11/8/2016.

Filed Date: 9/9/16.

Accession Number: 20160909-5104.

Comments Due: 5 p.m. ET 9/30/16.

Docket Numbers: ER16-2570-000.

Applicants: AES Ohio Generation, LLC.

Description: § 205(d) Rate Filing: AES Ohio Generation Reactive Power Tariff Filing to be effective 11/8/2016.

Filed Date: 9/9/16.

Accession Number: 20160909-5109.

Comments Due: 5 p.m. ET 9/30/16.

Take notice that the Commission received the following PURPA 210(m)(3) filings:

Docket Numbers: QM16-5-000.

Applicants: Oklahoma Municipal Power Authority.

Description: Application to Terminate Mandatory PURPA Purchase Obligation in the Southwest Power Pool of Oklahoma Municipal Power Authority.

Filed Date: 9/8/16.

Accession Number: 20160908-5297.

Comments Due: 5 p.m. ET 10/7/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 9, 2016.
Nathaniel J. Davis, Sr.,
Deputy Secretary.

[FR Doc. 2016-22201 Filed 9-14-16; 8:45 am]

BILLING CODE 6717-01-P